DEPARTMENT OF HEALTH AND HUMAN SERVICES

Administration for Children and Families

Proposed Information Collection Activity; Comment Request

Proposed Projects

Title: Tribal Child Support Direct Funding Regulation—Final.

OMB No.: 0970-0218.

Description: This final rule contains reporting requirements as proposed at 45 CFR part 309. As required by the Paperwork Reduction Act of 1995 (44 U.S.C. 3507(d)), the Administration for Children and Families submitted the requirements to the Office of Management and Budget (OMB) for its review.

Part 309 contains a regulatory requirement that, in order to receive funding for an independent Tribal IV-D program, a Tribe or Tribal organization must submit an application containing Standard Forms 424 and 424A and a plan describing how the Tribe or Tribal organization meets or plans to meet the objectives of section 455(f) of the Act, including establishing paternity, establishing, modifying, and enforcing support orders, and locating noncustodial parents. Tribes and Tribal organizations must respond if they wish to operate a Federally funded program. In addition, any Tribe or Tribal organization participating in the program would be required to submit Standard Form 269A and form OCSE 34A and to submit statistical and narrative reports regarding its Tribal IV-D program.

Respondents: The potential respondents to these information collection requirements are approximately 10 Federally recognized Tribes and Tribal organizations, during year 1; 65 additional Federally recognized Tribes and Tribal organizations during Year 2; and 75 additional Federally recognized Tribes and Tribal organizations during Year 3; for a three-year total of 150 grantees. This information collection requirement will impose the estimated total annual burden on the Tribes and Tribal organizations described in the table below:

Annual Burden Estimates
Year 1—Instrument | Number of respondents | Number of responses per respondent | Average burden hours per response | Total burden hours
45 CFR 309—Plan | 10 | 1 | 480 | 4,800
Form OCSE 34A | 10 | 4 | 8 | 320
Statistical Reporting | 10 | 1 | 24 | 240
Total | 10 | 6 | 512 | 5,360

Year 2—Information collection | Number of respondents | Responses per respondent | Average burden per response | Total annual burden
45 CFR 309—Plan | 65 | 1 | 480 | 31,200
Form OCSE 34A | 75 | 4 | 8 | 2,400
Statistical Reporting | 75 | 1 | 24 | 1,800
Total | 75 | 6 | 512 | 35,400

Year 3—Information collection | Number of respondents | Responses per respondent | Average burden per response | Total annual burden
45 CFR 309—Plan | 75 | 1 | 480 | 36,000
Form OCSE 34A | 150 | 4 | 8 | 4,800
Statistical Reporting | 150 | 1 | 24 | 3,600
Total | 150 | 6 | 512 | 44,400

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 29, 2003.
Robert Sargis,
Reports Clearance Officer.

[FR Doc. 03-19908 Filed 8-4-03; 8:45 am]

BILLING CODE 4184-01-M